DEPARTMENT OF COMMERCE

International Trade Administration

[C-602-814, C-553-002, C-403-807, C-549-856]

Silicon Metal From Australia, the Lao People's Democratic Republic, Norway, and Thailand: Initiation of Countervailing Duty Investigations

AGENCY: Enforcement and Compliance, International Trade Administration, Department of Commerce.

DATES: Applicable May 14, 2025.

FOR FURTHER INFORMATION CONTACT: Kyle Clahane at (202) 482-5449 (Australia), Shane Subler at (202) 482-6241 (the Lao People's Democratic Republic (Laos)), Mary Kolberg at (202) 482-1785 (Norway), and George McMahon at (202) 482-1167 (Thailand), AD/CVD Operations, Enforcement and Compliance, International Trade Administration, U.S. Department of Commerce, 1401 Constitution Avenue NW, Washington, DC 20230.

SUPPLEMENTARY INFORMATION:

The Petitions

On April 24, 2025, the U.S. Department of Commerce (Commerce) received countervailing duty (CVD) petitions concerning imports of silicon metal from Australia, Laos, Norway, and Thailand filed in proper form on behalf of Ferroglobe USA, Inc. and Mississippi Silicon LLC (the petitioners), domestic producers of silicon metal.¹ The CVD Petitions were accompanied by antidumping duty (AD) petitions concerning imports of silicon metal from Angola, Australia, Laos, and Norway.²

¹ See Petitioners' Letter, “Petitions for the Imposition of Antidumping and Countervailing Duties,” dated April 24, 2025 (Petitions).

² Id.

Between April 28 and May 5, 2025, Commerce requested supplemental information pertaining to certain aspects of the Petitions in supplemental questionnaires.³ Between April 30 and May 6, 2025, the petitioners filed timely responses to these requests for additional information.⁴

³ See Commerce's Letters, “Supplemental Questions,” dated April 30, 2025 (First General Issues Questionnaire) and “Country-Specific CVD Supplemental Questionnaires: Australia CVD Supplemental, Laos CVD Supplemental, Norway CVD Supplemental, and Thailand CVD Supplemental,” dated May 1, 2025, April 29, 2025, April 28, 2025, and April 29, 2025, respectively; see also “Supplemental Questions,” dated May 5, 2025 (Second General Issues Questionnaire).

⁴ See Petitioners' Letter, “Petitioners' Response to Supplemental Questions—General Issues,” dated May 1, 2025 (First General Issues Supplement); see also “Country-Specific CVD Supplemental Responses: Australia CVD Supplement, Laos CVD Supplement, and Norway CVD Supplement, and Thailand CVD Supplement,” dated May 6, 2025, May 2, 2025, April 30, 2025, and May 2, 2025, respectively; and “Petitioners' Response to Second General Issues Questionnaire,” dated May 6, 2025 (Second General Issues Supplement).

In accordance with section 702(b)(1) of the Tariff Act of 1930, as amended (the Act), the petitioners allege that the Government of Australia (GOA), Government of Laos (GOL), Government of Norway (GON), and Government of Thailand (GOT) (collectively, Governments) are providing countervailable subsidies, within the meaning of sections 701 and 771(5) of the Act, to producers of silicon metal in Australia, Laos, Norway, and Thailand, and that such imports are materially injuring, or threatening material injury to, the domestic industry producing silicon metal in the United States. Consistent with section 702(b)(1) of the Act and 19 CFR 351.202(b), for those alleged programs on which we are initiating CVD investigations, the Petitions were accompanied by information reasonably available to the petitioners supporting their allegations.

Commerce finds that the petitioners filed the Petitions on behalf of the domestic industry, because the petitioners are interested parties, as defined in section 771(9)(C) of the Act. Commerce also finds that the petitioners demonstrated sufficient industry support with respect to the initiation of the requested CVD investigations.⁵

⁵ See section on “Determination of Industry Support for the Petitions,” infra.

Periods of Investigation

Because the Petitions were filed on April 24, 2025, the period of investigation for the Australia, Laos, Norway, and Thailand CVD investigations is January 1, 2024, through December 31, 2024.⁶

⁶ See 19 CFR 351.204(b)(2).

Scope of the Investigations

The product covered by these investigations is silicon metal from Australia, Laos, Norway, and Thailand. For a full description of the scope of these investigations, see the appendix to this notice.

Comments on the Scope of the Investigations

As discussed in the Preamble to Commerce's regulations, we are setting aside a period for interested parties to raise issues regarding product coverage (i.e., scope).⁷ Commerce will consider all comments received from interested parties and, if necessary, will consult with interested parties prior to the issuance of the preliminary determinations. If scope comments include factual information, all such factual information should be limited to public information.⁸ Commerce requests that interested parties provide at the beginning of their scope comments a public executive summary for each comment or issue raised in their submission. Commerce further requests that interested parties limit their public executive summary of each comment or issue to no more than 450 words, not including citations. Commerce intends to use the public executive summaries as the basis of the comment summaries included in the analysis of scope comments. To facilitate preparation of its questionnaires, Commerce requests that scope comments be submitted by 5:00 p.m. Eastern Time (ET) on June 3, 2025, which is 20 calendar days from the signature date of this notice. Any rebuttal comments, which may include factual information, and should also be limited to public information, must be filed by 5:00 p.m. ET on June 13, 2025, which is 10 calendar days from the initial comment deadline.

⁷ See Antidumping Duties; Countervailing Duties; Final Rule, 62 FR 27296, 27323 (May 19, 1997) (Preamble).

⁸ See 19 CFR 351.102(b)(21) (defining “factual information”).

Commerce requests that any factual information that parties consider relevant to the scope of these investigations be submitted during that time period. However, if a party subsequently finds that additional factual information pertaining to the scope of the investigations may be relevant, the party must contact Commerce and request permission to submit the additional information. All scope comments must be filed simultaneously on the records of the concurrent AD and CVD investigations.

Filing Requirements

All submissions to Commerce must be filed electronically via Enforcement and Compliance's Antidumping Duty and Countervailing Duty Centralized Electronic Service System (ACCESS), unless an exception applies.⁹ An electronically filed document must be received successfully in its entirety by the time and date it is due.

⁹ See Antidumping and Countervailing Duty Proceedings: Electronic Filing Procedures; Administrative Protective Order Procedures, 76 FR 39263 (July 6, 2011); see also Enforcement and Compliance; Change of Electronic Filing System Name, 79 FR 69046 (November 20, 2014), for details of Commerce's electronic filing requirements, effective August 5, 2011. Information on using ACCESS can be found at https://access.trade.gov/help.aspx and a handbook can be found at https://access.trade.gov/help/Handbook_on_Electronic_Filing_Procedures.pdf.

Consultations

Pursuant to sections 702(b)(4)(A)(i) and (ii) of the Act, Commerce notified the GOA, GOL, GON, and GOT of the receipt of the Petitions and provided an opportunity for consultations with respect to the Petitions.¹⁰ Commerce held consultations with the GOA on May 13, 2025,¹¹ the GON on May 12, 2025,¹² and the GOT on May 8, 2025.¹³ The GOL did not request consultations.

¹⁰ See Commerce's Letters, “Invitation for Consultations to Discuss the Countervailing Duty Petition,” dated April 28, 2025.

¹¹ See Memorandum, “Consultations with the Government of Australia,” dated May 13, 2025; see also GOA's Letter, “GOA's Submission,” dated May 13, 2025.

¹² See Memorandum, “Consultations with the Government of Norway,” dated May 12, 2025; see also GON's Letter, “GON's Submission,” dated May 12, 2025.

¹³ See Memorandum, “Consultations with the Government of Thailand,” dated May 8, 2025; see also GOT's Letter, “Invitation for Consultations to Discuss the Countervailing Duty Petition,” dated May 8, 2025.

Determination of Industry Support for the Petitions

Section 702(b)(1) of the Act requires that a petition be filed on behalf of the domestic industry. Section 702(c)(4)(A) of the Act provides that a petition meets this requirement if the domestic producers or workers who support the petition account for: (i) at least 25 percent of the total production of the domestic like product; and (ii) more than 50 percent of the production of the domestic like product produced by that portion of the industry expressing support for, or opposition to, the petition. Moreover, section 702(c)(4)(D) of the Act provides that, if the petition does not establish support of domestic producers or workers accounting for more than 50 percent of the total production of the domestic like product, Commerce shall: (i) poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs Commerce to look to producers and workers who produce the domestic like product. The U.S. International Trade Commission (ITC), which is responsible for determining whether “the domestic industry” has been injured, must also determine what constitutes a domestic like product in order to define the industry. While both Commerce and the ITC apply the same statutory definition regarding the domestic like product,¹⁴ they do so for different purposes and pursuant to a separate and distinct authority. In addition, Commerce's determination is subject to limitations of time and information. Although this may result in different definitions of the like product, such differences do not render the decision of either agency contrary to law.¹⁵

¹⁴ See section 771(10) of the Act.

¹⁵ See USEC, Inc. v. United States, 132 F. Supp. 2d 1, 8 (CIT 2001) (citing Algoma Steel Corp., Ltd. v. United States, 688 F. Supp. 639, 644 (CIT 1988), aff'd Algoma Steel Corp., Ltd. v. United States, 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioners do not offer a definition of the domestic like product distinct from the scope of the investigations.¹⁶ Based on our analysis of the information submitted on the record, we have determined that silicon metal, as defined in the scope, constitutes a single domestic like product, and we have analyzed industry support in terms of that domestic like product.¹⁷

¹⁶ See Petitions at Volume I (pages 16-19 and Exhibits I-1, and I-9 through I-20).

¹⁷ For a discussion of the domestic like product analysis as applied to these cases and information regarding industry support, see Checklists, “Countervailing Duty Investigation Initiation Checklists: Silicon Metal from Australia, the Lao People's Democratic Republic, Norway, and Thailand,” dated concurrently with, and hereby adopted by, this notice (Country-Specific CVD Initiation Checklists), at Attachment II, Analysis of Industry Support for the Antidumping and Countervailing Duty Petitions Covering Silicon Metal from Angola, Australia, Laos, Norway, and Thailand (Attachment II). These checklists are on file electronically via ACCESS.

In determining whether the petitioners have standing under section 702(c)(4)(A) of the Act, we considered the industry support data contained in the Petitions with reference to the domestic like product as defined in the “Scope of the Investigations,” in the appendix to this notice. To establish industry support, the petitioners provided their own production of the domestic like product in 2024.¹⁸ The petitioners identified themselves as the only two producers of silicon metal in the United States; therefore, the Petitions are supported by 100 percent of the U.S. industry.¹⁹ We relied on data provided by the petitioners for purposes of measuring industry support.²⁰

¹⁸ Id.

¹⁹ Id.

²⁰ For further discussion, see Attachment II of the Country-Specific CVD Initiation Checklists.

Our review of the data provided in the Petitions, the First General Issues Supplement, Second General Issues Supplement, and other information readily available to Commerce indicates that the petitioners have established industry support for the Petitions.²¹ First, the Petitions established support from domestic producers (or workers) accounting for more than 50 percent of the total production of the domestic like product and, as such, Commerce is not required to take further action in order to evaluate industry support (e.g., polling).²² Second, the domestic producers (or workers) have met the statutory criteria for industry support under section 702(c)(4)(A)(i) of the Act because the domestic producers (or workers) who support the Petitions account for at least 25 percent of the total production of the domestic like product.²³ Finally, the domestic producers (or workers) have met the statutory criteria for industry support under section 702(c)(4)(A)(ii) of the Act because the domestic producers (or workers) who support the Petitions account for more than 50 percent of the production of the domestic like product produced by that portion of the industry expressing support for, or opposition to, the Petitions.²⁴ Accordingly, Commerce determines that the Petitions were filed on behalf of the domestic industry within the meaning of section 702(b)(1) of the Act.²⁵

²¹ Id.

²² Id.; see also section 702(c)(4)(D) of the Act.

²³ See Attachment II of the Country-Specific CVD Initiation Checklists.

²⁴ Id.

²⁵ Id.

Injury Test

Because Australia, Laos, Norway, and Thailand are “Subsidies Agreement Countries” within the meaning of section 701(b) of the Act, section 701(a)(2) of the Act applies to these investigations. Accordingly, the ITC must determine whether imports of the subject merchandise from Australia, Laos, Norway, and/or Thailand materially injure, or threaten material injury to, a U.S. industry.

Allegations and Evidence of Material Injury and Causation

The petitioners allege that imports of the subject merchandise are benefiting from countervailable subsidies and that such imports are causing, or threaten to cause, material injury to the U.S. industry producing the domestic like product. In addition, the petitioners allege that subject imports from Australia, Laos, and Norway exceed the negligibility threshold provided for under section 771(24)(A) of the Act.²⁶ Further, in the instance of a CVD petition, section 771(24)(B) of the Act provides that imports of subject merchandise from developing and least developed countries must exceed the negligibility threshold of four percent. The petitioner also demonstrates that imports from Laos, which has been designated as a least developed country under section 771(36)(B) of the Act, exceed the negligibility threshold of four percent.²⁷

²⁶ For further information regarding negligibility and the injury allegation, see Country-Specific CVD Initiation Checklists at Attachment III, Analysis of Allegations and Evidence of Material Injury and Causation for the Antidumping Duty and Countervailing Duty Petitions Covering Silicon Metal from Angola, Australia, the Lao People's Democratic Republic, Norway, and Thailand (Attachment III).

²⁷ Id.

With respect to Thailand, while the allegedly subsidized imports do not exceed the statutory requirements for negligibility,²⁸ the petitioners allege and provide supporting evidence that there is the potential that imports from Thailand will imminently exceed the negligibility threshold and, therefore, are not negligible for purposes of a threat determination.²⁹ The petitioners' arguments regarding the potential for imports to imminently exceed the negligibility threshold are consistent with the statutory criteria for “negligibility in threat analysis” under section 771(24)(A)(iv) of the Act, which provides that imports shall not be treated as negligible if there is a potential that subject imports from a country will imminently exceed the statutory requirements for negligibility.

²⁸ Id.

²⁹ Id.; see also section 771(24)(A)(iv) of the Act.

The petitioners contend that the industry's injured condition is illustrated by the significant increase in the volume of subject imports; reduced market share; underselling and price depression and/or suppression; lost sales and revenues; and adverse impact on financial performance.³⁰ We assessed the allegations and supporting evidence regarding material injury, threat of material injury, causation, cumulation, as well as negligibility, and we have determined that these allegations are properly supported by adequate evidence and meet the statutory requirements for initiation.³¹

³⁰ See Attachment III of the Country-Specific CVD Initiation Checklists.

³¹ Id.

Initiation of CVD Investigations

Based upon the examination of the Petitions and supplemental responses, we find that they meet the requirements of section 702 of the Act. Therefore, we are initiating CVD investigations to determine whether imports of silicon metal from Australia, Laos, Norway, and Thailand benefit from countervailable subsidies conferred by the GOA, GOL, GON, and GOT, respectively. In accordance with section 703(b)(1) of the Act and 19 CFR 351.205(b)(1), unless postponed, we will make our preliminary determinations no later than 65 days after the date of this initiation.

Australia

Based on our review of the Petitions, we find that there is sufficient information to initiate a CVD investigation on nine of the nine programs alleged by the petitioners. For a full discussion of the basis for our decision to initiate on each program, see the Australia CVD Initiation Checklist. A public version of the initiation checklist for this investigation is available on ACCESS.

Laos

Based on our review of the Petitions, we find that there is sufficient information to initiate a CVD investigation on 12 of the 14 programs alleged by the petitioners. For a full discussion of the basis for our decision to initiate on each program, see the Laos CVD Initiation Checklist. A public version of the initiation checklist for this investigation is available on ACCESS.

Norway

Based on our review of the Petitions, we find that there is sufficient information to initiate a CVD investigation on 11 of the 11 programs alleged by the petitioners. For a full discussion of the basis for our decision to initiate on each program, see the Norway CVD Initiation Checklist. A public version of the initiation checklist for this investigation is available on ACCESS.

Thailand

Based on our review of the Petitions, we find that there is sufficient information to initiate a CVD investigation on 16 of the 16 programs alleged by the petitioners. For a full discussion of the basis for our decision to initiate on each program, see the Thailand CVD Initiation Checklist. A public version of the initiation checklist for this investigation is available on ACCESS.

Respondent Selection

Australia, Laos, and Thailand

In the Petitions, the petitioners identified one company in Australia (i.e., Simcoa Operations (Silicon Metal Company of Australia)), one company in Laos (i.e., Lao Silicon Co., Ltd.), and two companies in Thailand (i.e., G.S. Energy Co., Ltd. and Sica New Materials (Thailand) Co., Ltd.) as producers and/or exporters of silicon metal and provided independent third-party information as support.³² We currently know of no additional producers/exporters of silicon metal from Australia, Laos, or Thailand.

³² See Petitions at Volume I (page 10-11 and Exhibit 6); see also First General Issues Supplement at 3-4 and Attachment 1.

Accordingly, Commerce intends to individually examine all known producers/exporters in the investigations from Australia, Laos, and Thailand (i.e., the companies mentioned above). We invite interested parties to comment on this issue. Such comments may include factual information within the meaning of 19 CFR 351.102(b)(21). Parties wishing to comment must do so within three business days of the publication of this notice in the Federal Register. Comments must be filed electronically using ACCESS. An electronically filed document must be received successfully in its entirety via ACCESS by 5:00 p.m. ET on the specified deadline. Because we intend to examine all known producers/exporters in Australia, Laos, and Thailand, if no comments are received, or if comments received further support the existence of only these producers/exporters, we do not intend to conduct respondent selection and will proceed to issuing the initial CVD questionnaires to the companies identified. However, if comments are received which create a need for a respondent selection process, we intend to finalize our decision regarding respondent selection for Australia, Laos, and Thailand within 20 days of publication of this notice.

Norway

In the Petitions, the petitioners identified three companies in Norway as producers and/or exporters of silicon metal.³³ Commerce intends to follow its standard practice in CVD investigations and calculate company-specific subsidy rates in the investigations. Following standard practice in CVD investigations, in the event Commerce determines that the number of companies is large, and it cannot individually examine each company based upon Commerce's resources, where appropriate, Commerce intends to select mandatory respondents based on U.S. Customs and Border Protection (CBP) data for imports under the appropriate Harmonized Tariff Schedule of the United States (HTSUS) subheading(s) listed in the “Scope of the Investigations,” in the appendix.

³³ See Petitions at Volume I (page 10-11 and Exhibit 6); see also First General Issues Supplement at 4-5 and Attachments 1 and 2.

On May 12, 2025, Commerce released CBP data on imports of silicon metal from Norway under administrative protective order (APO) to all parties with access to information protected by APO and indicated that interested parties wishing to comment on CBP data and/or respondent selection must do so within three business days of the publication date of the notice of initiation of these investigations.³⁴ Comments must be filed electronically using ACCESS. An electronically filed document must be received successfully in its entirety via ACCESS by 5:00 p.m. ET on the specified deadline. Commerce will not accept rebuttal comments regarding the CBP data or respondent selection.

³⁴ See Country-Specific Memoranda, “Release of U.S. Customs and Border Protection Entry Data,” dated May 12, 2025.

Interested parties must submit applications for disclosure under APO in accordance with 19 CFR 351.305(b). Instructions for filing such applications may be found on Commerce's website at https://www.trade.gov/administrative-protective-orders.

Distribution of Copies of the Petitions

In accordance with section 702(b)(4)(A) of the Act and 19 CFR 351.202(f), a copy of the public version of the Petitions has been provided to the GOA, GOL, GON, and GOT via ACCESS. To the extent practicable, we will attempt to provide a copy of the public version of the Petitions to each exporter named in the Petitions, as provided under 19 CFR 351.203(c)(2).

ITC Notification

Commerce will notify the ITC of its initiation, as required by section 702(d) of the Act.

Preliminary Determinations by the ITC

The ITC will preliminarily determine, within 45 days after the date on which the Petitions were filed, whether there is a reasonable indication that imports of silicon metal from Australia, Laos, Norway, and/or Thailand are materially injuring, or threatening material injury to, a U.S. industry.³⁵ A negative ITC determination for either country will result in the investigation being terminated with respect to that country.³⁶ Otherwise, these CVD investigations will proceed according to statutory and regulatory time limits.

³⁵ See section 703(a)(1) of the Act.

³⁶ Id.

Submission of Factual Information

Factual information is defined in 19 CFR 351.102(b)(21) as: (i) evidence submitted in response to questionnaires; (ii) evidence submitted in support of allegations; (iii) publicly available information to value factors of production under 19 CFR 351.408(c) or to measure the adequacy of remuneration under 19 CFR 351.511(a)(2); (iv) evidence placed on the record by Commerce; and (v) evidence other than factual information described in (i)-(iv). Section 351.301(b) of Commerce's regulations requires any party, when submitting factual information, to specify under which subsection of 19 CFR 351.102(b)(21) the information is being submitted ³⁷ and, if the information is submitted to rebut, clarify, or correct factual information already on the record, to provide an explanation identifying the information already on the record that the factual information seeks to rebut, clarify, or correct.³⁸ Time limits for the submission of factual information are addressed in 19 CFR 351.301, which provides specific time limits based on the type of factual information being submitted. Interested parties should review the regulations prior to submitting factual information in these investigations.

³⁷ See 19 CFR 351.301(b).

³⁸ See 19 CFR 351.301(b)(2).

Extensions of Time Limits

Parties may request an extension of time limits before the expiration of a time limit established under 19 CFR 351.301, or as otherwise specified by Commerce. In general, an extension request will be considered untimely if it is filed after the expiration of the time limit established under 19 CFR 351.301, or as otherwise specified by Commerce.³⁹ For submissions that are due from multiple parties simultaneously, an extension request will be considered untimely if it is filed after 10:00 a.m. ET on the due date. Under certain circumstances, Commerce may elect to specify a different time limit by which extension requests will be considered untimely for submissions which are due from multiple parties simultaneously. In such a case, we will inform parties in a letter or memorandum of the deadline (including a specified time) by which extension requests must be filed to be considered timely. An extension request must be made in a separate, standalone submission; under limited circumstances we will grant untimely filed requests for the extension of time limits, where we determine, based on 19 CFR 351.302, that extraordinary circumstances exist. Parties should review Commerce's regulations concerning the extension of time limits and the Time Limits Final Rule prior to submitting factual information in these investigations.⁴⁰

³⁹ See 19 CFR 351.302.

⁴⁰ See 19 CFR 351.301; see also Extension of Time Limits; Final Rule, 78 FR 57790 (September 20, 2013) (Time Limits Final Rule), available at https://www.gpo.gov/fdsys/pkg/FR-2013-09-20/html/2013-22853.htm.

Certification Requirements

Any party submitting factual information in an AD or CVD proceeding must certify to the accuracy and completeness of that information.⁴¹ Parties must use the certification formats provided in 19 CFR 351.303(g).⁴² Commerce intends to reject factual submissions if the submitting party does not comply with the applicable certification requirements.

⁴¹ See section 782(b) of the Act.

⁴² See Certification of Factual Information to Import Administration During Antidumping and Countervailing Duty Proceedings, 78 FR 42678 (July 17, 2013) (Final Rule); see also frequently asked questions regarding the Final Rule, available at https://enforcement.trade.gov/tlei/notices/factual_info_final_rule_FAQ_07172013.pdf.

Notification to Interested Parties

Interested parties must submit applications for disclosure under APO in accordance with 19 CFR 351.305. Parties wishing to participate in these investigations should ensure that they meet the requirements of 19 CFR 351.103(d) (e.g., by filing the required letters of appearance). Note that Commerce has amended certain of its requirements pertaining to the service of documents in 19 CFR 351.303(f).⁴³

⁴³ See Administrative Protective Order, Service, and Other Procedures in Antidumping and Countervailing Duty Proceedings, 88 FR 67069 (September 29, 2023).

This notice is issued and published pursuant to sections 702 and 777(i) of the Act, and 19 CFR 351.203(c).

Dated: May 14, 2025.
Christopher Abbott,
Deputy Assistant Secretary for Policy and Negotiations, performing the non-exclusive functions and duties of the Assistant Secretary for Enforcement and Compliance.

Appendix

Scope of the Investigations

The scope of these investigations covers all forms and sizes of silicon metal, including silicon metal powder. Silicon metal contains at least 85.00 percent but less than 99.99 percent silicon, and less than 4.00 percent iron, by actual weight. Semiconductor grade silicon (merchandise containing at least 99.99 percent silicon by actual weight and classifiable under Harmonized Tariff Schedule of the United States (HTSUS) subheading 2804.61.0000) is excluded from the scope of these investigations.

Silicon metal is currently classifiable under subheadings 2804.69.1000 and 2804.69.5000 of the HTSUS. While the HTSUS numbers are provided for convenience and customs purposes, the written description of the scope remains dispositive.

[FR Doc. 2025-09028 Filed 5-20-25; 8:45 am]

BILLING CODE 3510-DS-P